INTERNATIONAL TRADE COMMISSION

[Investigation No. 337-TA-1390]

Certain Capacitive Discharge Ignition Systems, Components Thereof, and Products Containing the Same; Notice of Commission Determination Not To Review a Final Initial Determination Finding No Violation; Termination of Investigation

AGENCY: U.S. International Trade Commission.

ACTION: Notice.

SUMMARY: Notice is hereby given that the U.S. International Trade Commission (“Commission”) has determined not to review a final initial determination (“FID”) of the presiding chief administrative law judge (“CALJ”) finding no violation of section 337. The investigation is terminated.

FOR FURTHER INFORMATION CONTACT: Namo Kim, Esq., Office of the General Counsel, U.S. International Trade Commission, 500 E Street SW, Washington, DC 20436, telephone (202) 205-3459. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on February 14, 2024, based on a complaint filed by Altronic, LLC of Girard, Ohio (“Altronic”). 89 FR 11314-15 (Feb. 14, 2024). The complaint, as supplemented, alleges violations of section 337 of the Tariff Act of 1930, as amended, 19 U.S.C. 1337 (“section 337”), based on the importation into the United States, the sale for importation, and/or the sale within the United States after importation of certain capacitive discharge ignition systems, components thereof, and products containing the same by reason of the infringement of certain claims of U.S. Patent No. 7,401,603 (“the '603 patent”). Id. The complaint further alleges that a domestic industry (“DI”) exists. Id. The notice of investigation named as respondents MOTORTECH GmbH of Celle, Germany and MOTORTECH Americas, LLC of New Orleans, Louisiana (collectively “MOTORTECH”). Id. The Office of Unfair Import Investigations is not named as a party. Id.

On October 23, 2024, the Commission affirmed an initial determination granting in part Altronic's motion for summary determination that it has satisfied the economic prong of the DI requirement with respect to the MORIS product for the '603 patent under sections 337(a)(3)(A) and (B) (19 U.S.C. 1337(a)(3)(A), (B)). Order No. 13 (Sept. 19, 2024); affirmed by Comm'n Notice (Oct. 23, 2024).

On January 28, 2025, the CALJ issued the FID finding no violation of section 337. Specifically, the FID finds that Altronic has not proved that the accused products infringe any of the asserted patent claims. The FID also finds that Altronic's DI products, CPU-XL and MORIS, satisfy the technical prong of the DI requirement. As noted, the Commission previously found that Altronic has satisfied the economic prong of the DI requirement with respect to Altronic's MORIS product. Therefore, the FID finds that Altronic has satisfied the DI requirement. Lastly, the FID finds that MOTORTECH failed to show by clear and convincing evidence that any of the asserted claims of the '603 patent are invalid for patent ineligibility under 35 U.S.C. 101 or as obvious under 35 U.S.C. 103.

The FID also includes a Recommended Determination (“RD”) recommending, should the Commission find a violation of section 337, that the Commission issue a limited exclusion order barring entry of articles that infringe the relevant patent claim with a warranty exemption and a standard certification provision. The RD further recommends, in the event the Commission finds a violation of section 337, that the Commission issue a cease and desist order against MOTORTECH Americas, LLC, and set a 100 percent bond per importation of infringing articles during the period of Presidential review.

On February 4, 2025, the Commission published its post-RD Federal Register notice seeking submissions on public interest issues raised by the relief recommended by the CALJ should the Commission find a violation. 90 FR 8937-38 (Feb. 4, 2025). No responses were filed from the public. The parties did not file any public interest submissions pursuant to Commission Rule 210.50(a)(4). 19 CFR 210.50(a)(4).

No petitions for review of the FID were filed.

The Commission has determined not to review the FID. The investigation is terminated.

The Commission vote for this determination took place on March 31, 2025.

The authority for the Commission's determination is contained in section 337 of the Tariff Act of 1930, as amended (19 U.S.C. 1337), and in Part 210 of the Commission's Rules of Practice and Procedure (19 CFR part 210).

By order of the Commission.
Issued: March 31, 2025.
Lisa Barton,
Secretary to the Commission.

[FR Doc. 2025-05791 Filed 4-3-25; 8:45 am]

BILLING CODE 7020-02-P